OFFICE OF THE UNITED STATES TRADE REPRESENTATIVE

Generalized System of Preferences (GSP): Notice of the Results of the 2010 GSP Annual Review

AGENCY: Office of the United States Trade Representative.

ACTION: Notice.

SUMMARY: This notice announces (1) the disposition of the product petitions accepted for review in the 2010 GSP Annual Review, and (2) the status of country practices petitions accepted as part of GSP annual reviews, including the 2010 GSP Annual Review.

FOR FURTHER INFORMATION CONTACT: Tameka Cooper, GSP Program, Office of the United States Trade Representative, 1724 F Street NW., Room F-214, Washington, DC 20508. The telephone number is (202) 395-6971, the fax number is (202) 395-2961, and the email address is Tameka_Cooper@ustr.eop.gov.

SUPPLEMENTARY INFORMATION: The GSP program provides for the duty-free importation of eligible articles when imported from designated beneficiary developing countries. The GSP program is authorized by Title V of the Trade Act of 1974 (19 U.S.C. 2461, et seq.), as amended, and is implemented in accordance with Executive Order 11888 of November 24, 1975, as modified by subsequent Executive Orders and Presidential Proclamations.

In the 2010 GSP Annual Review, the Trade Policy Staff Committee (TPSC) reviewed two petitions to change product coverage of the GSP. Based on the TPSC's review and the recommendation of the U.S. Trade Representative, President Obama removed one product—sleeping bags, not containing 20 percent or more by weight of feathers and/or down (HTSUS 9404.30.80)—from eligibility for duty-free treatment under GSP, effective January 1, 2012, because it is import-sensitive in the context of GSP. (See Presidential Proclamation 8770 of December 29, 2011.) A petition to remove GSP duty-free treatment for two types of self-adhesive plastic tape (HTSUS 3919.10.20 and 3919.90.50) was denied.

There are no changes at this time to the status of those country practice petitions accepted in the 2010 GSP annual review and continued from earlier annual reviews. A list of all of the country practice petitions under review can be found on the USTR Web site at http://www.ustr.gov/webfm_send/3218 in List II (Petitions for Review of Country Practices).

William D. Jackson,
Deputy Assistant U.S. Trade Representative for the Generalized System of Preferences and Chair of the GSP Subcommittee of the Trade Policy Staff Committee, Office of the U.S. Trade Representative.

[FR Doc. 2012-250 Filed 1-9-12; 8:45 am]

BILLING CODE 3190-W2-P